FEDERAL MARITIME COMMISSION

Notice of Agreement Filed

The Commission hereby gives notice of the filing of the following agreement under the Shipping Act of 1984. Interested parties may submit comments on the agreements to the Secretary, Federal Maritime Commission, Washington, DC 20573, within twelve days of the date this notice appears in the Federal Register. Copies of the agreement are available through the Commission's Web site (www.fmc.gov) or by contacting the Office of Agreements at 202/523-5793 or tradeanalysis@fmc.gov.

Agreement No.: 012252.

Title: LGL/Farrell Space Charter and Cooperative Working Agreement.

Parties: Liberty Global Logistics LLC and Farrell Lines Incorporated.

Filing Party: Brooke F. Shapiro; Winston & Strawn LLP; 200 Park Avenue; New York, NY 10166.

Synopsis: The agreement authorizes LGL and Farrell Lines to discuss and possibly agree on the chartering of space to each other in the trade between ports on the U.S. East and Gulf Coasts on the one hand, and ports along the Arabian Sea, Red Sea, Persian Gulf and Middle East, and India and Pakistan, on the other hand.

By Order of the Federal Maritime Commission.
Dated: March 14, 2014.
Rachel E. Dickon,
Assistant Secretary.

[FR Doc. 2014-06061 Filed 3-18-14; 8:45 am]

BILLING CODE 6730-01-P